DEPARTMENT OF COMMERCE

National Oceanic and Atmospheric Administration

Notice of Availability of a Draft Programmatic Environmental Assessment for Vessel Operations

AGENCY: Office of Marine and Aviation Operations (OMAO), National Oceanic and Atmospheric Administration (NOAA), Department of Commerce (DOC).

ACTION: Notice of availability; request for comments.

SUMMARY: The National Oceanic and Atmospheric Administration (NOAA), Office of Marine and Aviation Operations (OMAO) has prepared a draft programmatic environmental assessment (PEA) in accordance with the National Environmental Policy Act of 1969 (NEPA), as amended by the Fiscal Responsibility Act of 2023, to analyze the potential environmental impacts associated with OMAO's ongoing vessel operations as the NOAA fleet is modernized over a 15-year timeframe from 2023 to 2038.

The Draft PEA assesses the direct, indirect, and cumulative environmental impacts from OMAO vessel operations while NOAA ships are underway, during which time OMAO conducts training, testing, calibration, and troubleshooting of vessel equipment and instruments in preparation for use by other NOAA Line Offices (LOs) or organizations outside of NOAA. OMAO's Proposed Action in the Draft PEA would ensure that NOAA's current and future fleet is maintained and operated in a safe, environmentally compliant manner, thus allowing NOAA to fulfill its at-sea mission objectives and data collection requirements in marine, coastal, and freshwater environments. The purpose of this NOA is to invite affected government agencies, non-governmental organizations, tribes and tribal organizations, and interested members of the public to participate in the Draft PEA process and provide comments on the structure, contents, and analysis in the Draft PEA. Publication of this document begins the 40-day public comment period for the Draft PEA.

DATES: Written comments on the Draft PEA will be accepted on or before January 31, 2024.

ADDRESSES: The Draft PEA can be viewed or downloaded from the OMAO website at http://omao.noaa.gov/noaa-vessel-operations-draft-pea. Written comments on OMAO's Draft PEA may be submitted by one of the following methods:

• Mail: Please direct written comments to DOC/NOAA/OMAO: Hannah Staley, Sea Grant Fellow, Office of Marine and Aviation Operations, National Oceanic and Atmospheric Administration, 1315 East-West Highway, Silver Spring, MD 20910.

• Email: omaoenvironmental.compliance@noaa.gov.

Instructions: Comments sent by any other method, to any other address or individual, or received after the end of the comment period, may not be considered by NOAA. All comments received are part of the public record. All personal identifying information (e.g., name, address, etc.), confidential business information, or otherwise sensitive information submitted voluntarily by the sender will be publicly accessible. NOAA will accept anonymous comments.

FOR FURTHER INFORMATION CONTACT: Hannah Staley, Sea Grant Fellow, omaoenvironmental.compliance@noaa.gov; 301-713-1045.

SUPPLEMENTARY INFORMATION: The Draft PEA examines the environmental effects of OMAO's operation of NOAA vessels in United States (U.S.) waters, including the oceans from the U.S. baseline, also known as the territorial sea baseline, to the limits of the U.S. Exclusive Economic Zone (EEZ), and the U.S. portions of the Great Lakes. The geographic scope extends to the international maritime boundaries with Canada and Mexico. The PEA also considers OMAO's operations in areas outside of U.S. jurisdiction. Under the Draft PEA's Proposed Action, OMAO would continue to operate, maintain, and manage the NOAA fleet as the existing fleet is updated and aging vessels are replaced with new vessels. Specifically, the Draft PEA focuses its analysis on the environmental impacts of OMAO's vessel operations while NOAA ships are underway (i.e., when ships are either moving in open water or secured to a specific location in open water), but not for scientific research activities conducted by another NOAA Line Office or organization outside of NOAA. During this time, OMAO conducts training, testing, calibration, and troubleshooting of vessel equipment and instruments to maintain mission-readiness levels in support of NOAA's at-sea observational requirements. Examples of routine vessel operations include vessel movement; anchoring; waste handling and discharges; vessel repair and maintenance; uncrewed marine systems operations; uncrewed aircraft systems operations; small boat operations; and over the side handling, crane, davit, and winch operations.

OMAO has prepared the Draft PEA to analyze the physical, biological, economic, and social impacts to the human environment from OMAO vessel operations over a 15-year timeframe from 2023 to 2038. OMAO notes that almost half of NOAA's ships will exceed their design service life during the timeframe of this Draft PEA; therefore, NOAA needs to invest in modernizing its fleet to maintain fleet capabilities for its primary missions. OMAO supports NOAA's primary missions by operating, managing, and maintaining NOAA's fleet of vessels, vessel equipment, and instruments, and NOAA's Uncrewed Systems Operation Program, of which only Uncrewed Marine Systems (UMS) and Uncrewed Aerial Systems (UAS) deployed directly from NOAA vessels are considered in this Draft PEA. OMAO maintains these vessels, equipment, and systems at mission-readiness levels, facilitating all of NOAA's at-sea and data collection requirements.

OMAO's Draft PEA evaluates three alternatives:

• Alternative A—No Action—Continue Vessel Operations with Current NOAA Fleet: Under Alternative A, OMAO would continue to use the current NOAA fleet to conduct routine vessel operations, in addition to the testing, calibrating, training, and troubleshooting of vessel equipment and instruments, to support NOAA's primary missions and at-sea capabilities. OMAO would operate ships in the NOAA fleet until the end of their service life, and would continue to support projects undertaken by other NOAA Line Offices or organizations outside of NOAA at the current level of activity, for as long as the fleet capacity allows. Additionally, OMAO is constructing two oceanographic research vessels that are expected to come online in 2025, and awarded contracts in July 2023 for two new charting and mapping vessels that are expected to come online in 2027 and 2028 for a total of four new ships. This alternative also analyzes impacts from the additional “greening” techniques that are currently being implemented across the NOAA fleet, which include goals for fuel efficiency and emissions reductions. New ships would be integrated with greener technologies including improvements in wastewater and solid waste management, supplemental power generation, and hull protection; new technologies for data collection; and advancements in ship infrastructure. This alternative reflects the ships, technology, equipment, fleet utilization, scope, and methods currently in use by OMAO.

• Alternative B—Vessel Operations with Fleet Modernization and Optimizing At-Sea Capabilities: This alternative consists of Alternative A plus implementing measures for long-term modernization of the NOAA fleet and fleet management best practices. Fleet modernization is expected to result in a NOAA fleet of similar size to the current fleet, but with new ships coming online as older ships retire, in addition to newer and more efficient technologies and fleet utilization resulting in the capacity to provide more days-at-sea (DAS) than Alternative A. Specific examples of additional measures adopted under Alternative B over the next 15 years would include:

○ Designing and constructing up to four additional ships needed to replace vessels that would reach the end of their design service life between 2023 and 2038 (resulting in a total of 8 new ships when combined with the four new ships being constructed under Alternative A);

○ Extending service life of the existing fleet by conducting material condition assessment surveys and mid-life repairs; and

○ Increasing NOAA fleet utilization, which would provide more DAS compared to Alternative A;

Under Alternative B, all the activities described in Alternative A would continue, many at a higher level of effort. The nature of these actions would not change, but the overall level of activity would be increased.

• Alternative C—Vessel Operations with Fleet Modernization and Optimization with Greater Funding Support: Alternative C includes all the activities and measures described in Alternative B, but with an increase in overall funding of 20 percent relative to Alternative B, resulting in the capacity to provide more DAS. Specific examples of additional measures adopted under Alternative C over the next 15 years would include:

○ Designing and constructing two new ships in addition to the eight new ships that would be added to the NOAA fleet between 2023 and 2038 under Alternative B;

○ Increasing the number of uncrewed systems integrated into new ships that would be added to the NOAA fleet;

○ Shortening the timeframe of fleet improvement activities and the induction of new ships into the fleet;

○ Greening techniques proposed for the new ships would be implemented across the current fleet over a shorter timeframe;

○ Shortening of the timeframe to improve the OMAO small boat fleet; and

• Purchasing or developing technology to enable more efficient scheduling of vessels, equipment, and personnel to maximize crew productivity and enhance overall fleet performance, which would provide more DAS.

Under Alternative C, all the activities described in Alternative B would occur, many at a higher level of effort. The nature of these actions would not change, but the overall level of activity would be increased.

The official public review and comment period ends on January 31, 2024. Please visit the OMAO website for additional information and to access the Draft PEA: http://omao.noaa.gov/noaa-vessel-operations-draft-pea.

Classification: The Draft PEA was prepared in accordance with the National Environmental Policy Act (NEPA) (42 U.S.C. 4321 et seq.) as amended by the Fiscal Responsibility Act of 2023, Public Law 118-5 (2023); Council on Environmental Quality (CEQ) Regulations for Implementing the Procedural Provisions of NEPA (40 CFR 1500-1508 (1978)); NOAA's Policy and Procedures for Compliance with the National Environmental Policy Act and Related Authorities (NOAA Administrative Order (NAO) 216-6A and Companion Manual for NAO 216-6A), and other relevant federal and state laws and regulations.

Dated: December 18, 2023.
Richard W. Spinrad,
Under Secretary of Commerce for Oceans and Atmosphere and NOAA Administrator.

[FR Doc. 2023-28120 Filed 12-20-23; 8:45 am]

BILLING CODE 3510-12-P